DEPARTMENT OF TRANSPORTATION

Federal Aviation Administration

Notice of Intent to Rule on Application 08-21-C-00-ORD To Impose and Use the Revenue From a Passenger Facility Charge (PFC) at Chicago O'Hare International Airport, Chicago, IL

AGENCY: Federal Aviation Administration (FAA), DOT.

ACTION: Notice of Intent to Rule on Application.

SUMMARY: The FAA proposes to rule and invites public comment on the application to impose and use the revenue from a PFC at Chicago O'Hare International Airport under the provisions of the 49 U.S.C. 40117 and Part 158 of the Federal Aviation Regulations (14 CFR part 158).

DATES: Comments must be received on or before date which is 30 days after date of publication in the Federal Register.

ADDRESSES: Comments on the application may be mailed or delivered in triplicate to the FAA at the following address: James G. Keefer, Federal Aviation Administration, Manager, Chicago Airports District Office, 2300 E. Devon, Room 320, Des Plaines, Illinois 60018.

In addition, one copy of any comments submitted to the FAA must be mailed or delivered to Richard L. Rodriguez, Commissioner of the City of Chicago Department of Aviation at the following address: Chicago O'Hare International Airport, 10510 West Zemke Road, P.O. Box 66142, Chicago, Illinois 60666.

Air carriers and foreign air carriers may submit copies of written comments previously provided to the City of Chicago Department of Aviation under section 158.23 of Part 158.

FOR FURTHER INFORMATION CONTACT: James G. Keefer, Federal Aviation Administration, Manager, Chicago Airports District Office, 2300 E. Devon, Room 320, Des Plaines, Illinois 60018, (847) 294-7336.

Review of Application: Any person may inspect the application in person at the Chicago Airports District Office, 2300 E. Devon, Room 320, Des Plaines, Illinois 60018. Please call (847) 294-7336 to set up an appointment. The application may also be viewed at http://www.aql.faa.qov/OMP/PFC/PFC.htm.

In addition, any person may, upon request, inspect the application, notice and other documents germane to the application in person at the City of Chicago Department of Aviation, 10510 West Zemke Road, Chicago, Illinois 60666. Please contact Michael Zonsius at (773) 686-3433 to set up an appointment.

SUPPLEMENTARY INFORMATION: The FAA proposes to rule and invites public comment on the application to impose and use the revenue from a PFC at Chicago O'Hare International Airport under the provisions of the 49 U.S.C. 40117 and Part 158 of the Federal Aviation Regulations (14 CFR part 158).

On September 16, 2008, the City of Chicago Department of Aviation submitted an application to impose and use revenues from a PFC at Chicago O'Hare International Airport.

On October 16, 2008, the FAA determined that the application to impose and use the revenue from a PFC submitted by City of Chicago Department of Aviation was not substantially complete within the requirements of section 158.25 of Part 158. The City of Chicago supplemented the application on October 29, 2008. The FAA will approve or disapprove the application, in whole or in part, no later than February 26, 2009.

The following is a brief overview of the application.

PFC application number: 08-21-C-00-ORD.

Proposed charge effective date: December 1, 2024.

Proposed charge expiration date: February 1, 2026. Level of the proposed PFC: $ 4.50.

Total estimated PFC revenue: $182,278,173.

Brief description of proposed project(s): Airfield Design (completion phase) and Western Terminal Area Planning.

Class or classes of air carriers which the public agency has requested not be required to collect PFCs: Air taxi.

Issued in Des Plaines, Illinois, on November 13, 2008.
Elliott Black,
Manager, Planning/Programming Branch, Airports Division, Great Lakes Region.

[FR Doc. E8-27548 Filed 11-20-08; 8:45 am]

BILLING CODE 4910-13-M